NUCLEAR REGULATORY COMMISSION

[NRC-2011-0152]

Evaluations of Explosions Postulated To Occur at Nearby Facilities and on Transportation Routes Near Nuclear Power Plants

AGENCY: Nuclear Regulatory Commission.

ACTION: Draft regulatory guide; request for comment.

SUMMARY: The U.S. Nuclear Regulatory Commission (NRC or the Commission) is issuing for public comment draft regulatory guide (DG), DG-1270, “Evaluations of Explosions Postulated to Occur at Nearby Facilities and on Transportation Routes Near Nuclear Power Plants”. This draft regulatory guide describes for applicants and licensees of nuclear power reactors some methods and assumptions the NRC's staff finds acceptable for evaluating postulated explosions at nearby facilities and transportation routes.

DATES: Submit comments by September 19, 2011. Comments received after this date will be considered if it is practical to do so, but the NRC is able to ensure consideration only for comments received on or before this date. Although a time limit is given, comments and suggestions in connection with items for inclusion in guides currently being developed or improvements in all published guides are encouraged at any time.

ADDRESSES: Please include Docket ID NRC-2011-0152 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2011-0152. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this draft regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft regulatory guide is available electronically under ADAMS Accession Number ML110390554. The regulatory analysis is available electronically under ADAMS Accession Number ML110400261.

• Federal Rulemaking Web Site: Public comments and supporting materials related to this draft regulatory guide can be found at http://www.regulations.gov by searching on Docket ID NRC-2011-0152.

Electronic copies of DG-1270 are available through the NRC's public Web site under Draft Regulatory Guides in the “Regulatory Guides” collection of the NRC's Library at http://www.nrc.gov/reading-rm/doc-collections/.

Regulatory guides are not copyrighted, and Commission approval is not required to reproduce them.

FOR FURTHER INFORMATION CONTACT: Mekonen Bayssie, U.S. Nuclear Regulatory Commission, Washington, DC 20555-0001; telephone: 301-251-7489; e-mail: Mekonen.Bayssie@nrc.gov.

SUPPLEMENTARY INFORMATION: The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide is temporarily identified by its task number, DG-1270, which should be mentioned in all related correspondence. The DG-1270 is proposed Revision 2 of Regulatory Guide 1.91, dated February 1978.

This guide describes for applicants and licensees of nuclear power reactors some methods and assumptions the NRC's staff finds acceptable for evaluating postulated explosions at nearby facilities and transportation routes. It describes the calculation of safe distances based on estimates of TNT-equivalent mass of explosive materials, the calculation of exposure rates based on hazardous cargo transportation frequencies, and the calculation of blast load effects.

Dated at Rockville, Maryland, this 13th day of July 2011.
For the Nuclear Regulatory Commission.
Thomas H. Boyce,
Chief, Regulatory Guide Development Branch, Division of Engineering, Office of Nuclear Regulatory Research.

[FR Doc. 2011-18270 Filed 7-19-11; 8:45 am]

BILLING CODE 7590-01-P